DEPARTMENT OF COMMERCE

International Trade Administration

[A-583-803]

Light-Walled Welded Rectangular Carbon Steel Tubing From Taiwan: Continuation of Antidumping Duty Order

AGENCY: Enforcement and Compliance, International Trade Administration, Department of Commerce.

SUMMARY: As a result of the determinations by the U.S. Department of Commerce (Commerce) and the U.S. International Trade Commission (ITC) that revocation of the antidumping duty (AD) order on light-walled welded rectangular carbon steel tubing (LWR tubing) from Taiwan would likely lead to a continuation or recurrence of dumping and material injury to an industry in the United States, Commerce is publishing a notice of continuation of the AD order on LWR tubing from Taiwan.

DATES: Applicable March 6, 2023.

FOR FURTHER INFORMATION CONTACT: Claudia Cott, AD/CVD Operations, Office I, Enforcement and Compliance, International Trade Administration, U.S. Department of Commerce, 1401 Constitution Avenue NW, Washington, DC 20230; telephone: (202) 482-4270.

SUPPLEMENTARY INFORMATION:

Background

On March 27, 1989, Commerce published the AD order on LWR tubing from Taiwan.¹ On July 1, 2022, Commerce initiated,² and the ITC instituted,³ a sunset review of the Order, pursuant to section 751(c) of the Tariff Act of 1930, as amended (the Act).

¹ See Antidumping Duty Order; Light-Walled Welded Rectangular Carbon Steel Tubing from Taiwan, 54 FR 12467(March 27, 1989) (Order).

² See Initiation of Five-Year (Sunset) Reviews, 87 FR 39459 (July 1, 2022).

³ See Light-Walled Rectangular Pipe and Tube from Taiwan; Institution of a Five-Year Review, 87 FR 39562 (July 1, 2022).

As a result of its review, Commerce determined, pursuant to sections 751(c)(1) and 752(c) of the Act, that revocation of the Order would likely lead to continuation or recurrence of dumping, and, therefore, notified the ITC of the magnitude of the margins of dumping rates likely to prevail should the Order be revoked.⁴ On February 28, 2023, the ITC published its determination that revocation of the Order would likely lead to a continuation or recurrence of material injury to an industry in the United States within a reasonably foreseeable time.⁵

⁴ See Light-Walled Welded Rectangular Carbon Steel Tubing from Taiwan: Final Results of the Expedited Sunset Review of the Antidumping Duty Order, 87 FR 64437 (October 25, 2022), and accompanying Issues and Decision Memorandum.

⁵ See Light-Walled Rectangular Pipe and Tube from Taiwan, 88 FR 12698 (February 28, 2023); see also Light-Walled Rectangular Pipe and Tube from Taiwan: Investigation No. 731-TA-410 (Fifth Review), USITC Pub. 5410 (February 2023).

Scope of the Order

The products covered by the Order are LWR tubing of rectangular (including square) cross-section, having a wall thickness of less than 0.156 inch. This merchandise is classified under subheading 7306.61.5000 of the U.S. Harmonized Tariff Schedule (HTSUS). It was formerly classified under subheading 7306.60.5000. The HTSUS subheadings are provided for convenience and customs purposes only. The written description remains dispositive.

Continuation of the Order

As a result of the determinations by Commerce and the ITC that revocation of the Order would likely lead to a continuation or recurrence of dumping and material injury to an industry in the United States, pursuant to section 751(d)(2) of the Act and 19 CFR 351.218(a), Commerce hereby orders the continuation of the Order. U.S. Customs and Border Protection will continue to collect AD cash deposits at the rates in effect at the time of entry for all imports of subject merchandise.

The effective date of the continuation of the Order will be the date of publication in the Federal Register of this notice of continuation. Pursuant to section 751(c)(2) of the Act and 19 CFR 351.218(c)(2), Commerce intends to initiate the next five-year (sunset) review of the Order not later than 30 days prior to the fifth anniversary of the effective date of continuation.

Administrative Protective Order

This notice also serves as the only reminder to parties subject to the administrative protective order (APO) of their responsibility concerning the return, destruction, or conversion to judicial protective order of proprietary information disclosed under APO in accordance with 19 CFR 351.305(a)(3). Failure to comply is a violation of the APO which may be subject to sanctions.

Notification to Interested Parties

This five-year sunset review and this notice are in accordance with section 751(c) of the Act and published pursuant to section 777(i)(1) of the Act, and 19 CFR 351.218(f)(4).

Dated: February 28, 2023.
Abdelali Elouaradia,
Deputy Assistant Secretary for Enforcement and Compliance.

[FR Doc. 2023-04449 Filed 3-3-23; 8:45 am]

BILLING CODE 3510-DS-P